DEPARTMENT OF THE INTERIOR

National Park Service

Avalanche Hazard Reduction by Burlington Northern Santa Fe Railway in Glacier National Park and Flathead National Forest, Montana Final Environmental Impact Statement, Glacier National Park, MT

AGENCY: National Park Service, Department of the Interior.

ACTION: Notice of Availability of the Final Environmental Impact Statement for the Avalanche Hazard Reduction by Burlington Northern Santa Fe Railway in Glacier National Park and Flathead National Forest, Montana.

SUMMARY: Pursuant to the National Environmental Policy Act of 1969, 42 U.S.C. 4332(2)(C), the National Park Service announces the availability of a Final Environmental Impact Statement for the Avalanche Hazard Reduction by Burlington Northern Santa Fe Railway in Glacier National Park and Flathead National Forest, Montana. Four alternatives were analyzed: (A) No Action, (B-Preferred) No Explosive Use Permitted except under emergency extenuating circumstances, (C) Explosive Use Permitted for up to 10 Years, provided that BNSF agrees to construct snowsheds, and (D) Permanent ongoing explosive use in the park for up to 3 snow events each year, under a special use permit. The preferred alternative would permit BNSF to install weather forecasting equipment in the park for more accurate forecasting. It would permit BNSF to install new avalanche detection technology along the southern boundary of the park to detect avalanche activity. The alternative also provides for the emergency use of explosives when all other avalanche hazard reduction methods including train delays have been employed.

DATES: The National Park Service will execute a Record of Decision (ROD) no sooner than 30 days following publication by the Environmental Protection Agency of the Notice of Availability of the Final Environmental Impact Statement.

ADDRESSES: Information will be available for public inspection online at http://parkplanning.nps.gov, in the office of the Superintendent, Glacier National Park Headquarters, West Glacier, Montana 59936, 406-888-7901.

FOR FURTHER INFORMATION CONTACT: Mary Riddle, Glacier National Park, West Glacier, MT 59936, 406-888-7898, mary_riddle@nps.gov.

Dated: July 1, 2008.
Michael D. Snyder,
Director, Intermountain Region, National Park Service.

[FR Doc. E8-16894 Filed 7-23-08; 8:45 am]

BILLING CODE 4310-94-M